FEDERAL COMMUNICATIONS COMMISSION

[OMB 3060-1028; FR ID 151822]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it can further reduce the information collection burden for small business concerns with fewer than 25 employees.

DATES: Written comments and recommendations for the proposed information collection should be submitted on or before August 7, 2023.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: The Commission may not conduct or sponsor a collection of information unless it displays a currently valid Office of Management and Budget (OMB) control number. No person shall be subject to any penalty for failing to comply with a collection of information subject to the PRA that does not display a valid OMB control number.

As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control No.: 3060-1028.

Title: International Signaling Point Code (ISPC).

Form No.: N/A.

Type of Review: Revision of a currently approved collection.

Respondents: Business or other for-profit entities.

Number of Respondents: 11 respondents; 20 responses.

Estimated Time per Response: 0.5 hours-3 hours.

Frequency of Response: On occasion reporting requirement; Third party disclosure requirement.

Obligation to Respond: Required to obtain or retain benefits. The statutory authority for this collection is contained in Sections 1, 4(i)-(j), 201-205, 211, 214, 219-220, 303(r), 309 and 403 of the Communications Act of 1934, as amended, 47 U.S.C 151, 154(i)-(j), 201-205, 211, 214, 219-220, 303(r), and 403.

Total Annual Burden: 15 hours.

Annual Cost Burden: $13,300.

Needs and Uses: The Federal Communications Commission (Commission) is requesting that the Office of Management and Budget (OMB) to approve a revision to OMB Control No. 3060-1028—International Signaling Point Code. The Commission is developing revised and new electronic forms for this collection as part of the Commission's modernization of its online, web-based electronic filing system—the International Bureau filing system (IBFS). This information collection seeks approval for the new and revised forms to request an International Signaling Point Code (ISPC), and reflects changes in the costs and burdens associated with these applications.

An ISPC is a unique, seven-digit code used to identify the signaling network of each international carrier. The ISPC has a unique format that is used at the international level for signaling message routing and identification of signaling points in Signaling System 7 networks. ISPC applications are filed through IBFS. After receipt of the ISPC application, the Commission assigns the ISPC code to each applicant (international carrier) free of charge on a first-come, first-served basis. The collection of this information is required to assign a unique identification code to each international carrier and to facilitate communication among international carriers by their use of the ISPC code on the shared signaling network. The Commission informs the International Telecommunication Union (ITU) of its assignment of ISPCs to international carriers on an ongoing basis.

In 1987, the Commission assumed the responsibility as the Administrator for the U.S. of issuing ISPCs to international carriers based on an exchange of letters between AT&T, the Commission, and the International Telecommunications Union-Telecommunications Standardization (ITU-T). The ITU allocates a specific amount of ISPCs to member countries for assignment to carriers. ITU-T Recommendation Q.708 includes a list of criteria for assignment of signaling point codes.

The ITU, headquartered in Geneva, Switzerland, is an international organization within the United Nations System where governments and the private sector coordinate global telecom networks and services. The ITU-T, which is one of three sectors of the ITU, has a continuing role in preparing the technical specifications for telecommunications systems, networks and services, including their operation, performance and maintenance. In addition, the ITU-T oversees the tariff principles and accounting methods used to provide international services.

Pursuant to the ITU guidance contained in ITU-T Recommendation Q.708, the Commission must obtain certain information from an applicant requesting a new ISPC assignment. This information is used by the Commission to assess whether the applicant's use of the ISPC will be in compliance with ITU guidelines. The minimum information required is the name of the applicant and the name of the signaling point (typically the city where the ISPC will be located). ITU-T Recommendation Q.708 states that administrators can request additional information from applicants, which may include applicant contact information; location(s) where the ISPC(s) will be implemented; description of the nature of the use of the ISPC(s) in the network; a statement regarding the signaling point manufacturer/type; and identification of at least one planned Message Transfer Part (MTP) signaling relation. Applicants must also make several certifications/acknowledgments regarding their obligations and rights associated with an ISPC assignment. Operators that have been assigned an ISPC must also notify the Commission when any parameters of their code assignment(s) have changed (i.e., modifications), such as a change in the location where the ISPC has been implemented. In the event that an assigned ISPC has undergone a transfer of control as a result of a merger, acquisition, divestiture, or formation of a joint venture, the ISPC operator must notify the Commission of the transfer and the identity of the new holder of the ISPC (along with relevant contact information).

IBFS Modernization of ISPC Electronic Forms. The Commission seeks OMB approval of revisions to its ISPC application form and the addition of new forms that will be electronically filed through IBFS. The new online forms will ensure the Commission collects the information required by the Commission's rules. The use of such online forms will reduce costs and administrative burdens on applicants, resulting in greater efficiencies, and improve transparency to the public. Once the Commission receives approval for the new forms from OMB, as required by section 1.10006 of the Commission's rules, we will announce the availability of mandated e-forms and their effective dates.

Federal Communications Commission.
Marlene Dortch,
Secretary, Office of the Secretary.

[FR Doc. 2023-14406 Filed 7-6-23; 8:45 am]

BILLING CODE 6712-01-P